DEPARTMENT OF COMMERCE

International Trade Administration

[A-533-809]

Notice of Final Results of Antidumping Duty Changed Circumstances Review; Certain Forged Stainless Steel Flanges From India

AGENCY: Import Administration, International Trade Administration, Department of Commerce.

SUMMARY: On March 9, 2006, the Department of Commerce (the Department) published a notice of preliminary results of changed circumstances review of the antidumping duty order on certain forged stainless steel flanges (flanges) from India in which we preliminarily determined that Hilton Metal Forging Ltd. (HMFL) is the successor-in-interest company to Hilton Forge. See Notice of Preliminary Results of Antidumping Duty Changed Circumstances Review: Certain Forged Stainless Steel Flanges from India, 71 FR 12177 (March 9, 2006) (Preliminary Results). We gave interested parties an opportunity to comment on the preliminary results, but received no comments. Therefore, the final results do not differ from the preliminary results.

EFFECTIVE DATE: June 1, 2006.

FOR FURTHER INFORMATION CONTACT: Fred Baker or Robert James, AD/CVD Operations, Office 7, Import Administration, International Trade Administration, U.S. Department of Commerce, 14th Street and Constitution Avenue, NW, Washington, DC 20230, telephone : (202) 482-2924 or (202) 482-0649, respectively.

SUPPLEMENTARY INFORMATION:

Background

On November 14, 2005, Hilton Forge requested that the Department conduct a changed circumstances review of the antidumping duty order on flanges from India pursuant to section 751(b) of the Tariff Act of 1930, as amended (the Tariff Act), and 19 CFR 351.216. Hilton Forge claimed that HMFL is the successor-in-interest to Hilton Forge, the latter having converted itself from a partnership firm into a company limited by shares, and having changed its name to HMFL. As such, Hilton Forge argues HMFL should be entitled to receive the same antidumping treatment as Hilton Forge. On January 18, 2006, and February 3, 2006, at the request of the Department, HMFL submitted additional information and documentation pertaining to this changed circumstances request.

On March 9, 2006, the Department published the preliminary results of review, and invited interested parties to comment. See Preliminary Results. We received no comments.

Scope of the Order

The products covered by this order are certain forged stainless steel flanges, both finished and not finished, generally manufactured to specification ASTM A-182, and made in alloys such as 304, 304L, 316, and 316L. The scope includes five general types of flanges. They are weld-neck, used for butt-weld line connection; threaded, used for threaded line connections; slip-on and lap joint, used with stub-ends/butt-weld line connections; socket weld, used to fit pipe into a machined recession; and blind, used to seal off a line. The sizes of the flanges within the scope range generally from one to six inches; however, all sizes of the above-described merchandise are included in the scope. Specifically excluded from the scope of this order are cast stainless steel flanges. Cast stainless steel flanges generally are manufactured to specification ASTM A-351. The flanges subject to this order are currently classifiable under subheadings 7307.21.1000 and 7307.21.5000 of the Harmonized Tariff Schedule of the United States (HTSUS). Although the HTS subheading is provided for convenience and customs purposes, the written description of the merchandise under review is dispositive.

Final Results of Review

In antidumping duty changed circumstances reviews involving a successor-in-interest determination, the Department typically examines several factors including, but not limited to, changes in: (1) management; (2) production facilities; (3) supplier relationships; and (4) customer base. See Brass Sheet and Strip from Canada: Notice of Final Results of Antidumping Administrative Review, 57 FR 20460, 20462 (May 13, 1992) and Certain Cut-to-Length Carbon Steel Plate from Romania: Initiation and Preliminary Results of Changed Circumstances Antidumping Duty Administrative Review, 70 FR 22847 (May 3, 2005) (unchanged in final, 70 FR 35624 (June 21, 2005) (Plate from Romania). While no single factor or combination of factors will necessarily be dispositive, the Department generally will consider the new company to be the successor to the predecessor company if the resulting operations are similar to those of the predecessor company. See, e.g., Industrial Phosphoric Acid from Israel: Final Results of Changed Circumstances Review, 59 FR 6944, 6945 (February 14, 1994), and Plate from Romania, 70 FR 22847. Thus, if the record evidence demonstrates that, with respect to the production and sale of the subject merchandise, the new company operates as the same business entity as the predecessor company, the Department may assign the new company the cash deposit rate of its predecessor. See, e.g., Fresh and Chilled Atlantic Salmon from Norway: Final Results of Changed Circumstances Antidumping Duty Administrative Review, 64 FR 9979, 9980 (March 1, 1999).

We have examined the information HMFL provided, and determined that HMFL is the successor-in-interest to Hilton. Hilton Forge's name change to HMFL and its conversion from a limited partnership firm into a company limited by shares have not changed the operations of the company in a meaningful way. HMFL's management, production facilities, supplier relationships, sales facilities, and customer base are essentially unchanged from those of Hilton Forge. Therefore, the record evidence demonstrates that the new entity operates in the same manner as the predecessor company. Consequently, we determine that HMFL should receive the same antidumping duty treatment as Hilton Forge, i.e., a 0.89 percent antidumping duty cash deposit rate.

Instructions to U.S. Customs and Border Protection (CBP)

We will inform CBP that Hilton Forge no longer exists as a separate corporate entity, and that we will assign the same company-specific number to HMFL as we assigned to Hilton Forge. We will also instruct CBP that it should apply to HMFL the same cash deposit rate currently applied to Hilton Forge (i.e., 0.89 percent).

The cash deposit determination from this changed circumstances review will apply to all entries of the subject merchandise entered, or withdrawn from warehouse, for consumption on or after the date of publication of the final results of this changed circumstances review. See Granular Polytetrafluoroethylene Resin from Italy; Final Results of Antidumping Duty Changed Circumstances Review, 68 FR 25327 (May 12, 2003). This deposit rate shall remain in effect until publication of the final results of the next administrative review in which HMFL is reviewed.

Notification

This notice serves as a final reminder to parties to administrative protective orders (APOs) of their responsibility concerning the disposition of proprietary information disclosed under APO in accordance with 19 CFR 351.305(a)(5). Failure to timely notify the Department in writing of the return/destruction of APO material is a sanctionable violation.

We are issuing and publishing this notice in accordance with sections 751(b) and 777(i)(1) of the Tariff Act, and 19 CFR 351.216 and 351.221(c)(3)(i).

Dated: May 24, 2006.
David M. Spooner,
Assistant Secretary for Import Administration.

[FR Doc. E6-8513 Filed 5-31-06; 8:45 am]

BILLING CODE 3510-DS-S